DEPARTMENT OF DEFENSE

Department of the Army; Corps of Engineers

Notice of Availability for the Draft Environmental Impact Statement/Environmental Impact Report for the Berth 97-109 Container Terminal Project, Los Angeles County, CA

AGENCY: Department of the Army—U.S. Army Corps of Engineers, DoD.

ACTION: Notice of availability.

SUMMARY: The U.S. Army Corps of Engineers, Los Angeles District (Regulatory Branch), in coordination with the Port of Los Angeles, has completed a Draft Environmental Impact Statement/Environmental Impact Report (EIS/EIR) for the Berth 97-109 Container Terminal Project. The Port of Los Angeles requires authorization pursuant to Section 404 of the Clean Water Act and Section 10 of the Rivers and Harbors Act for wharf and terminal development (142 acres) in three phases, dredging up to 41,000 cubic yards of sediment, construction of two new concrete pile-supported wharves (for a total of 2,500 feet), new terminal buildings and two new terminal bridges.

FOR FURTHER INFORMATION CONTACT: Questions or comments concerning the Draft EIS/EIR should be directed to Dr. Aaron O. Allen, Senior Project Manager, Regulatory Branch, U.S. Army Corps of Engineers, P.O. Box 532711, Los Angeles, CA 90053-2325, (805) 585-2148.

SUPPLEMENTARY INFORMATION: None.

David J. Castanon,
Chief, Regulatory Branch, Los Angeles District.

[FR Doc. E6-13755 Filed 8-18-06; 8:45 am]

BILLING CODE 3710-KF-P